ENVIRONMENTAL PROTECTION AGENCY

[ER-FRL-8594-7]

Environmental Impact Statements; Notice of Availability

Responsible Agency: Office of Federal Activities, General Information (202) 564-1399 or http://www.epa.gov/compliance/nepa/

Weekly receipt of Environmental Impact Statements filed 06/15/2009 through 06/19/2009 pursuant to 40 CFR 1506.9.

EIS No. 20090196, Draft EIS, SFW, MT, Montana Department of Natural and Resources and Conservation Plan (HCP), Forested State Trust Lands, Designed to Minimize and Mitigate Any Such Take of Endangered or Threatened Species, Application for an Incidental Take Permit, MT, Comment Period Ends: 09/23/2009, Contact: Amelia Orton-Palmer 303-236-4211.

EIS No. 20090197, Final EIS, WAP, MN, Big Stone II Power Plant and Transmission Project, Addresses the Impacts of Changes to the Proposed Action Relative to Cooling Alternatives and the Use of Groundwater as Backup Water Source, US Army COE Section 10 and 404 Permits, Grant County, SD and Big Stone County, MN, Wait Period Ends: 07/27/2009, Contact: Matt Blevins 720-962-7261.

EIS No. 20090198, Draft EIS, AFS, CA, Shasta-Trinity National Forest Motorized Travel Management Project, Proposal to Prohibit Cross-County Motor Vehicle Travel off Designated National Forest Transportation System (NFTS) Roads, Motorized Trails and Areas by the Public Except as Allowed by Permit or Other Authorization (excluding snowmobile use), CA, Comment Period Ends: 08/10/2009, Contact: Robert Remillard 530-226-2421.

EIS No. 20090199, Draft EIS, AFS, OR, Westside Rangeland Analysis Project, Proposal to Allocate Forage for Commercial Livestock Grazing on Six Alternatives, Mud and Tope Creeks, Wallowa Valley Ranger District, Wallowa-Whitman National Forest, Wallowa County, OR, Comment Period Ends: 08/10/2009, Contact: Alicia Glassford 541-426-5689.

EIS No. 20090200, Draft EIS, AFS, MI, Niagara Project, To Address Site-Specific Vegetation and Transportation System Needs in the Project Areas, Hiawatha National Forest, St. Ignace and Sault Ste. Marie Ranger Districts, Mackinac and Chippewa Counties, MI, Comment Period Ends: 08/10/2009, Contact: Martha Sjogren 906-643-7900 Ext. 117.

EIS No. 20090201, Final Supplement, AFS, CA, Brown Project, Revised Proposal To Improve Forest Health by Reducing Overcrowded Forest Stand Conditions, Trinity River Management Unit, Shasta-Trinity National Forest, Weaverville Ranger District, Trinity County, CA, Wait Period Ends: 07/27/2009, Contact: Robert Remillard 530-226-2421.

EIS No. 20090202, Final EIS, AFS, MT, Ashland Ranger District Travel Management Project, Proposing to Designate Routes for Public Motorized Use, Ashland Ranger District, Custer National Forest, Rosebud and Power River Counties, MT, Wait Period Ends: 07/27/2009, Contact: Doug Epperly 406-657-6202 Ext. 225.

EIS No. 20090203, Final EIS, NOA, 00, Snapper Grouper Amendment 15B, Fishery Management Plan, Updated Information on the Economic Analysis for the Bag Limit Sales Provision, Update Management Reference Point for Golden Tilefish (Lopholatilus chamaeleonticeps); Define Allocations for Snowy Grouper (Epinephelus niveatus) and Red Porgy (Pagrus pagrus), NC, SC, FL and GA, Wait Period Ends: 07/27/2009, Contact: Dr. Roy E. Crabtree 727-824-5305.

EIS No. 20090204, Final EIS, AFS, 00, Sioux Ranger District Travel Management Project, To Designate the Road and Trail and Areas Suitable for Public Motorized Travel, Sioux Ranger District, Custer National Forest, Carter County of MT and Harding County of South Dakota, Wait Period Ends: 07/27/2009, Contact: Doug Epperly 406-657-6205 Ext 225.

EIS No. 20090205, Draft Supplement, AFS, OR, Invasive Plant Treatments Within the Deschutes and Ochoco National Forests and the Crooked River National Grassland, Updated Information on Three New Alternatives, Proposal for Treatment of Invasive Plant Infestation and Protection of Uninfested Areas, Implementation, Several Cos., OR, Comment Period Ends: 08/10/2009, Contact: Beth Peer 541-383-4769.

EIS No. 20090206, Final EIS, NOA, 00, PROGRAMMATIC EIS—Fishery Management Plan for Regulating Offshore Marine Aquaculture in the Gulf of Mexico, To Increase the Maximum Sustainable Yield (MSY) and Optimun Yield (OY), Implementation, Wait Period Ends: 07/27/2009, Contact: Dr. Roy E. Crabtree 727-551-5755.

EIS No. 20090207, Final EIS, FHW, UT, SR-262; Montezuma Creek to Aneth Project, Improvements to the Intersection of SR-162, SR-262, and County Road (CR) 450 in Montezuma Cree, Funding, Navajo Nation, San Juan County, UT, Wait Period Ends: 07/27/2009, Contact: Ed Woolford 801-963-0182.

EIS No. 20090208, Draft EIS, FHW, IL, Illinois 336 Corridor Project, (Federal Aid Primary Route 315), Proposed Macomb Bypass in McDonough County, to I-474 west of Peoria in Peoria County, Funding, McDonough, Fulton and Peoria Counties, IL, Comment Period Ends: 08/24/2009, Contact: Norman Stoner, P.E. 217-492-4600.

EIS No. 20090209, Draft EIS, BLM, WY, Wright Area Coal Lease Project, Applications for Leasing Six Tracts of Federal Coal Reserves Adjacent to the Black Thunder, Jacob Ranch, and North Antelope Rochelle Mines, Wyoming Powder River Basin, Campbell County, WY, Comment Period Ends: 08/24/2009, Contact: Sarah Bucklin 307-261-7541.

EIS No. 20090210, Draft EIS, FRC, 00, Ruby Pipeline Project, Proposed Natural Gas Pipeline Facilities, Right-of-Way Grants (and/or Temporary Use or Special Use Permits), WY, UT, NV and OR, Comment Period Ends: 08/10/2009, Contact: Patricia Schaub 1-866-208-3372.

EIS No. 20090211, Draft Supplement, AFS, CO, Vail Ski Area's 2007 Improvement Project, Proposed On-Mountain Restaurant from the top of Vail Mountain to Mid Vail, Special-Use-Permit, Eagle/Holy Cross Ranger District, White River National Forest, Eagle County, CO, Comment Period Ends: 08/10/2009, Contact: Don Dressler 970-827-5157.

EIS No. 20090212, Final EIS, FTA, MN, Central Corridor Project, Selected the Preferred Alternative, 11 miles Light Rail Transit between downtown Minneapolis and downtown St. Paul, Minnesota, Twin Cities Metropolitan Area, MN, Wait Period Ends: 07/27/2009, Contact: William Wheeler 312-353-2639.

EIS No. 20090213, Final EIS, USN, 00, Undersea Warfare Training Range Project, Installation and Operation, Preferred Site Jacksonville Operating Area, FL and Alternative Sites (within the Charleston, SC; Cherry Point, NC; and VACAPES Operating Areas, VA, Wait Period Ends: 07/27/2009, Contact: Lesley Leonard 757-322-4645.

EIS No. 20090214, Final EIS, CGD, 00, PROGRAMMATIC—Vessel and Facility Response Plans for Oil: 2003 Removal Equipment Requirements and Alternative Technology Revisions, To Increase the Oil Removal Capability, U.S. Exclusive Economic Zone (EEZ), United States, Alaska, Guam, Puerto Rico and other U.S. Territories, Wait Period Ends: 07/27/2009, Contact: Greg Kirkbride 202-372-1479.

Dated: June 23, 2009.
Robert W. Hargrove,
Director, NEPA Compliance Division, Office of Federal Activities.

[FR Doc. E9-15141 Filed 6-25-09; 8:45 am]

BILLING CODE 6560-50-P